DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on January 16, 2026. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On January 16, 2026, OFAC determined that the property and interests in property subject to U.S. jurisdiction of the following persons are blocked under the relevant sanctions authority listed below.

Individuals

1. ASGHAR, Imran, 27 28 Jumeirah Park, District 6, St F, Dubai, United Arab Emirates; DOB 19 Dec 1962; POB Lahore, Pakistan; nationality Pakistan; alt. nationality Iran; Gender Male; Secondary sanctions risk: section 1(b) of Executive Order 13224, as amended by Executive Order 13886; Passport BM1828063 (Pakistan) expires 19 Oct 2032 (individual) [SDGT] (Linked To: ARKAN MARS PETROLEUM DMCC).

Designated pursuant to section 1(a)(iii)(C) of E.O. 13224 of September 23, 2001, “Blocking Property and Prohibiting Transactions With Persons Who Commit, Threaten To Commit, or Support Terrorism,” 66 FR 49079, 3 CFR, 2001 Comp., p. 786, as amended by Executive Order 13886 of September 9, 2019, “Modernizing Sanctions To Combat Terrorism,” 84 FR 48041, 3 CFR, 2019 Comp., p. 356 (E.O. 13224, as amended), for having materially assisted, sponsored, or provided financial, material, or technological support for, or goods or services to or in support of, ARKAN MARS PETROLEUM DMCC, a person whose property and interests in property are blocked pursuant to E.O. 13224, as amended.

2. BAIDHANI, Waleed Fathi Salam (a.k.a. ALBAIDHANI, Waled Fatehi Salem; a.k.a. SALM, Walid Fathi), Dubai, United Arab Emirates; DOB 27 Aug 1980; nationality Yemen; Gender Male; Secondary sanctions risk: section 1(b) of Executive Order 13224, as amended by Executive Order 13886 (individual) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

3. AL-SHARAFI, Zayd `Ali Ahmed (a.k.a. AL-SHARAFI AL-AZRAQ, Zaid `Ali Yahiya), Sana'a, Yemen; DOB 15 Mar 1989; POB Al Hudaydah Governorate, Yemen; nationality Yemen; Gender Male; Secondary sanctions risk: section 1(b) of Executive Order 13224, as amended by Executive Order 13886; Passport 13398992 (Yemen); alt. Passport RE0138931 (Saint Kitts and Nevis) (individual) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

4. AL MUAYYAD, Adil Mutahhar Abdallah, Yemen; DOB 20 Aug 1975; nationality Yemen; Gender Male; Secondary sanctions risk: section 1(b) of Executive Order 13224, as amended by Executive Order 13886; Passport 03856973 (Yemen) expires 06 Apr 2016 (individual) [SDGT] (Linked To: ANSARALLAH).

Designated pursuant to section 1(a)(iii)(A) of E.O. 13224, as amended, for being owned, controlled, or directed by, or having acted or purported to act for or on behalf of, directly or indirectly, ANSARALLAH, a person whose property and interests in property are blocked pursuant to E.O. 13224, as amended.

BILLING CODE 4810-AL-P

BILLING CODE 4810-AL-C

Entities

1. ADEEMA OIL FZC (a.k.a. ADIMA OIL), PO Box 233599, No. 639 Ghurair Building, Dubai, United Arab Emirates; website www.adeema.com; Secondary sanctions risk: section 1(b) of Executive Order 13224, as amended by Executive Order 13886; Organization Established Date 18 Sep 2011; License 5006759 (United Arab Emirates) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

2. AL SHARAFI OIL COMPANIES SERVICES (a.k.a. AL-SHARAFI OIL; a.k.a. AL-SHARAFI OIL FOR IMPORTING PETROLEUM DERIVATIVES), Sana'a, Yemen; Secondary sanctions risk: section 1(b) of Executive Order 13224, as amended by Executive Order 13886; Commercial Registry Number 2/34074 (Yemen) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

3. NEW OCEAN TRADING FZE (a.k.a. NEW OCEAN INTERNATIONAL TRADING FZE; a.k.a. NEW OCEAN TRADING AND IMPORT COMPANY), Hamriyah Business Center, Sharjah, United Arab Emirates; Secondary sanctions risk: section 1(b) of Executive Order 13224, as amended by Executive Order 13886; Organization Established Date 2019; Organization Type: Wholesale and retail trade [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

4. ALSAA PETROLEUM AND SHIPPING FZC (a.k.a. ALSA COMPANY; a.k.a. ALSAA; a.k.a. ALSAA PETROLEUM & SHIPPING; a.k.a. ALSAA PETROLEUM & SHIPPING FZC), PO Box 124024, No. 702 Reef Tower, Dubai, United Arab Emirates; website www.alsaagroup.com; Secondary sanctions risk: section 1(b) of Executive Order 13224, as amended by Executive Order 13886; Organization Established Date 10 Nov 2002; License 5000343 (United Arab Emirates); Registration Number 11401539 (United Arab Emirates) [SDGT] (Linked To: ARKAN MARS PETROLEUM DMCC).

Designated pursuant to section 1(a)(iii)(C) of E.O. 13224, as amended, for having materially assisted, sponsored, or provided financial, material, or technological support for, or goods or services to or in support of, ARKAN MARS PETROLEUM DMCC, a person whose property and interests in property are blocked pursuant to E.O. 13224, as amended.

BILLING CODE 4810-AL-P

BILLING CODE 4810-AL-C

10. ALBARRAQ SHIPPING CO, Trust Company Complex, Ajeltake Road, Majuro, Ajeltake Island 96960, Marshall Islands; Secondary sanctions risk: section 1(b) of Executive Order 13224, as amended by Executive Order 13886; Organization Established Date 23 Apr 2025; Identification Number IMO 0237669; Business Registration Number 131338 (Marshall Islands) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

Vessel

1. ALBARRAQ Z (D604006) Crude Oil Tanker Unknown flag; Former Vessel Flag Comoros; Secondary sanctions risk: section 1(b) of Executive Order 13224, as amended by Executive Order 13886; Vessel Year of Build 2003; Vessel Registration Identification IMO 9252943; MMSI 620800006 (vessel) [SDGT] (Linked To: ALBARRAQ SHIPPING CO).

Identified pursuant to Executive Order 13224, as amended, for being property in which ALBARRAQ SHIPPING CO, a person whose property and interests in property are blocked pursuant to E.O. 13224, as amended, has an interest.

SDN List Update

BILLING CODE 4810-AL-P

BILLING CODE 4810-AL-C

Bradley T. Smith,
Director, Office of Foreign Assets Control.

[FR Doc. 2026-01137 Filed 1-21-26; 8:45 am]

BILLING CODE 4810-AL-C